DEPARTMENT OF DEFENSE

Office of the Secretary

[Transmittal Nos. 13-42]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-42 with attached transmittal and policy justification.

Dated: September 20, 2013.
Aaron Siegel,
Alternate OSD Federal Register Liaison Officer, Department of Defense.

Transmittal No. 13-42

Notice of Proposed Issuance of Letter of Offer Pursuant to Section 36(b)(1) of the Arms Export Control Act, as amended

(i) Prospective Purchaser: Government of Tunisia

(ii) Total Estimated Value:

Major Defense Equipment * | $ 8.2 million
Other | $51.8 million
TOTAL | $60.0 million
* As defined in Section 47(6) of the Arms Export Control Act.

(iii) Description and Quantity or Quantities of Articles or Services under Consideration for Purchase: Block 1 Avionics Upgrades on Tunisia's fleet of 12 F-5 aircraft. The upgrade includes 12 LN-260 Standard Positioning System Embedded Global Positioning System/Inertial Navigation Systems, Control Display Unit, Electrical Power, and Environmental Control System, repairs, Material Condition Inspection, publications and technical documentation, personnel training and training equipment, U.S. Government and contractor engineering, technical and logistics support services, and other related elements of logistical and program support.

(iv) Military Department: Air Force (QAI)

(v) Prior Related Cases, if any: FMS Case SNA—$154M—16 June 82

(vi) Sales Commission, Fee, etc., Paid, Offered, or Agreed to be Paid: None

(vii) Sensitivity of Technology Contained in the Defense Article or Defense Services Proposed to be Sold: None

(viii) Date Report Delivered to Congress: 18 September 2013

POLICY JUSTIFICATION

Tunisia—F-5 Avionics Upgrade

The Government of Tunisia has requested a possible sale of Block 1 Avionics Upgrades on Tunisia's fleet of 12 F-5 aircraft. The upgrade includes 12 LN-260 Standard Positioning System Embedded Global Positioning System/Inertial Navigation Systems (GPS/INS), Control Display Unit, Electrical Power, and Environmental Control System, repairs, Material Condition Inspection, publications and technical documentation, personnel training and training equipment, U.S. Government and contractor engineering, technical and logistics support services, and other related elements of logistical and program support. The estimated cost is $60 million.

This proposed sale will contribute to the foreign policy and national security of the United States by helping to improve the security of a friendly country in North Africa.

The proposed sale will improve Tunisia's capability to deter regional threats and strengthen its homeland defense, as well as support counter-terrorism operations. These systems will bolster Tunisia's ability to continue supporting its air and ground forces in counter-terrorism and border security operations. Tunisia, which already has F-5 aircraft in its inventory, will have no difficulty absorbing this service and support into its armed forces.

The proposed sale of this equipment and support will not alter the basic military balance in the region.

The principal contractor will be Northrop Grumman of St. Augustine, Florida. There are no known offset agreements proposed in connection with this potential sale.

Implementation of this proposed sale will require the assignment of up to 23 U.S. contractor representatives to Tunisia for approximately two years.

There will be no adverse impact on U.S. defense readiness as a result of this proposed sale.

[FR Doc. 2013-23397 Filed 9-25-13; 8:45 am]

BILLING CODE 5001-06-P